DEPARTMENT OF COMMERCE

International Trade Administration

[A-570-828]

Silicomanganese From the People's Republic of China: Notice of Correction to the Final Results of the Expedited Fourth Sunset Review of the Antidumping Duty Order

AGENCY: Enforcement and Compliance, International Trade Administration, Department of Commerce.

FOR FURTHER INFORMATION CONTACT: Joseph Degreenia, AD/CVD Operations, Office III, Enforcement and Compliance, International Trade Administration, U.S. Department of Commerce, 1401 Constitution Avenue NW, Washington, DC 20230; telephone: (202) 432-6430

SUPPLEMENTARY INFORMATION:

Correction

On February 8, 2018, the Department of Commerce (Commerce) published the final results of the expedited fourth sunset review of the antidumping duty order on silicomanganese from the People's Republic of China (China).¹ The Final Results Federal Register notice inadvertently identified an incorrect case number associated with the antidumping duty (AD) order on silicomanganese from China (i.e., incorrect case number A-570-864). The correct case number associated with the AD order on silicomanganese from China is A-570-828. This notice serves as a correction notice.

¹ See Silicomanganese from the People's Republic of China and Ukraine: Final Results of Expedited Fourth Sunset Reviews of the Antidumping Duty Orders, 83 FR 5609 (February 8, 2018) (Final Results).

This correction is published in accordance with sections 751(c), 752(c) and 777(i) of the Tariff Act of 1930, as amended.

Dated: March 22, 2018.
Gary Taverman,
Deputy Assistant Secretary for Antidumping and Countervailing Duty Operations, performing the non-exclusive functions and duties of the Assistant Secretary for Enforcement and Compliance.

[FR Doc. 2018-08655 Filed 4-24-18; 8:45 am]

BILLING CODE 3510-DS-P